DEPARTMENT OF DEFENSE

Department of the Army, Corps of Engineers

Notice of Mississippi River Commission Public Meetings for Fall 2025

AGENCY: Corps of Engineers, Department of the Army, DoD.

ACTION: Notice.

SUMMARY: The Mississippi River Commission will hold its fall of 2025 meetings at the below locations, dates and times.

DATES: August 15, 2025, 9:00 a.m. St. Louis, Missouri; August 18, 2025, 9:00 a.m. Caruthersville, Missouri; August 19, 2025, 9:00 a.m. Memphis, TN; August 20, 2025, Greenville, Mississippi; August 22, 2025, Morgan City, Louisiana. Locations for the public meetings will take place on the Motor Vessel Mississippi. Additional details for the public meetings are included in the Supplementary Information section of this notice.

ADDRESSES: The physical address for the Mississippi River Commission is 1400 Walnut Drive, Vicksburg, Mississippi 39180.

FOR FURTHER INFORMATION CONTACT: Mr. Jacob Brister, telephone 601-634-7023. Also see: https://www.mvd.usace.army.mil/About/Mississippi-River-Commission-MRC/Public-Meeting-Schedule/.

SUPPLEMENTARY INFORMATION:

Time and Date: 9:00 a.m., August 15, 2025.

Place: On board the Motor Vessel MISSISSIPPI at City Front, St. Louis, Missouri.

Status: Open to the public.

Matters To Be Considered: (1) Summary report by President of the Commission on national and regional issues affecting the U.S. Army Corps of Engineers and Commission programs and projects on the Mississippi River and its tributaries; (2) District Commander's overview of current project issues within the St. Louis District; and (3) Presentations by local organizations and members of the public giving views or comments on any issue affecting the programs or projects of the Commission and the Corps of Engineers.

Time and Date: 9:00 a.m., August 18, 2025.

Place: On board the Motor Vessel MISSISSIPPI at City Front, Caruthersville, Missouri.

Status: Open to the public.

Matters To Be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

Time and Date: 9:00 a.m., August 19, 2025.

Place: On board the Motor Vessel MISSISSIPPI at Mud Island Park, Memphis, Tennessee.

Status: Open to the public.

Matters to be Considered: (1) Summary report by President of the Commission on national and regional issues affecting the U.S. Army Corps of Engineers and Commission programs and projects on the Mississippi River and its tributaries; (2) District Commander's overview of current project issues within the Memphis District; and (3) Presentations by local organizations and members of the public giving views or comments on any issue affecting the programs or projects of the Commission and the Corps of Engineers.

Time and Date: 9:00 a.m., August 20, 2025.

Place: On board the Motor Vessel MISSISSIPPI at City Front, Greenville, Mississippi.

Status: Open to the public.

Matters to be Considered: (1) Summary report by President of the Commission on national and regional issues affecting the U.S. Army Corps of Engineers and Commission programs and projects on the Mississippi River and its tributaries; (2) District Commander's overview of current project issues within the Vicksburg District; and (3) Presentations by local organizations and members of the public giving views or comments on any issue affecting the programs or projects of the Commission and the Corps of Engineers.

Time and Date: 9:00 a.m., August 22, 2025.

Place: On board the Motor Vessel MISSISSIPPI at Port Commission Dock, Morgan City, Louisiana.

Status: Open to the public.

Matters to be Considered: (1) Summary report by President of the Commission on national and regional issues affecting the U.S. Army Corps of Engineers and Commission programs and projects on the Mississippi River and its tributaries; (2) District Commander's overview of current project issues within the New Orleans District; and (3) Presentations by local organizations and members of the public giving views or comments on any issue affecting the programs or projects of the Commission and the Corps of Engineers.

James A. Bodron,
Programs Director, Mississippi Valley Division.

[FR Doc. 2025-14735 Filed 8-4-25; 8:45 am]

BILLING CODE 3720-58-P